FEDERAL COMMUNICATIONS COMMISSION

47 CFR Part 73

[DA 05-1858; MB Docket No. 05-117, RM-11182; MB Docket No. 05-119, RM-11184]

Radio Broadcasting Services; Colfax, LA, and Moody, TX

AGENCY: Federal Communications Commission.

ACTION: Final rule.

SUMMARY: In response to a multi-docket Notice of Proposed Rulemaking, 70 FR 17047 (April 4, 2005) this Report and Order allots new FM channels in two communities, including Colfax, Louisiana and Moody, Texas. The Audio Division, at the request of Charles Crawford, allots Channel 267A at Colfax, Louisiana, as the community's first local aural transmission service. Channel 267A can be allotted to Colfax in compliance with the Commission's technical requirements with a site restriction of 13.0 kilometers (8.1 miles) southwest of Colfax, Louisiana. The reference coordinates for Channel 267A at Colfax are 31-27-53 North Latitude and 92-49-44 West Longitude. See SUPPLEMENTARY INFORMATION, infra.

DATES: Effective August 15, 2005. The window period for filing applications for these allotments will not be opened at this time. Instead, the issue of opening these allotments for auction will be addressed by the Commission in a subsequent order.

ADDRESSES: Federal Communications Commission, 445 Twelfth Street, SW., Washington, DC 20554.

FOR FURTHER INFORMATION CONTACT: R. Barthen Gorman, Media Bureau, (202) 418-2180.

SUPPLEMENTARY INFORMATION: This is a synopsis of the Commission's Report and Order, MB Docket Nos. 05-117 and 05-119, adopted June 29, 2005, and released July 1, 2005. The full text of this Commission decision is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC, 20054, telephone 1-800-378-3160 or http://www.BCPIWEB.com. The Commission will send a copy of this Report and Order in a report to be sent to Congress and the Government Accountability Office pursuant to the Congressional Review Act, see 5 U.S.C. 801(a)(1)(A).

The Audio Division, at the request of Charles Crawford, allots Channel 256A at Moody, Texas, as the community's first local aural transmission service. Channel 256A can be allotted to Moody in compliance with the Commission's technical requirements with a site restriction of 8.7 kilometers (5.4 miles) west of Moody. The reference coordinates for Channel 256A at Moody are 31-17-03 North Latitude and 97-26-35 West Longitude.

List of Subjects in 47 CFR Part 73

Radio, Radio broadcasting.

PART 73—RADIO BROADCAST SERVICES

1. The authority citation for part 73 continues to read as follows:

Authority: 47 U.S.C. 154, 303, 334 and 336.

§ 73.202 [Amended]

2. Section 73.202(b), the Table of FM Allotments under Louisiana, is amended by adding Colfax, Channel 267A.

3. Section 73.202(b), the Table of FM Allotments under Texas, is amended by adding Moody, Channel 256A.

Federal Communications Commission.
John A. Karousos,
Assistant Chief, Audio Division, Media Bureau.

[FR Doc. 05-14236 Filed 7-19-05; 8:45 am]

BILLING CODE 6712-01-P